DEPARTMENT OF JUSTICE

[OMB Number 1190-0008]

Civil Rights Division, Federal Coordination and Compliance Section; Agency Information Collection Activities Under Review

ACTION: 30-Day Notice of Information Collection Under Review: Federal Coordination and Compliance Section Complaint Form.

The Department of Justice, Civil Rights Division, Federal Coordination and Compliance Section, will be submitting the following information collection request to the Office of Management and Budget for review and approval in accordance with the Paperwork Reduction Act of 1995. The information collection extension is published to obtain comments from the public and affected agencies. This proposed information collection was previously published in the Federal Register Volume 75, Number 210, page 67116, on November 1, 2010 allowing for a 60-day public comment period.

The purpose of this notice is to allow an additional 30 days for public comment. Comments are encouraged and will be accepted until February 14, 2011. This process is conducted in accordance with 5 CFR 1320.10.

Written comments and/or suggestions are requested from the public and affected agencies concerning the proposed collection of information. Your comments should address one or more of the following four points:

(1) Evaluate whether the collection of information is necessary for the proper performance of the function of the agency, including whether the information will have practical utility;

(2) Evaluate the accuracy of the agency's estimate of the burden of the collection of information;

(3) Enhance the quality, utility, and clarity of the information to be collected; and

(4) Minimize the burden of the collection of information on those who are to respond, including through the use of appropriate automated, electronic, mechanical, or other technological collection techniques or other forms of information technology (e.g., permitting electronic submission of responses).

To ensure that comments on the information are received, OMB recommends that written comments be faxed to the Office of Information and Regulatory Affairs, OMB, Attn: DOJ Desk Officer, FAX: 202-395-7285, or e-mailed to oira_submission@omb.eop.gov. All comments should be identified with the OMB control number, i.e. (1140-XXXX). Also include the DOJ docket number found in brackets in the heading of this document.

Overview of this information collection is listed below:

(1) Type of information collection: Extension of Currently Approved Collection.

(2) The title of the form/collection: Federal Coordination and Compliance Section, Complaint Form.

(3) The agency form number and applicable component of the Department sponsoring the collection: No form number. Federal Coordination and Compliance Section, Civil Rights Division, U.S. Department of Justice.

(4) Affected public who will be asked to respond, as well as a brief abstract: Primary: Individuals alleging discrimination by public and private entities based on race, color, national origin, sex, religion, age, or other bases. Federal Coordination and Compliance Section serves as a clearinghouse for receipt, review and referral of citizen complaints. FCS also investigates complaints against recipients of Federal financial assistance from the U.S. Department of Justice. Under Title VI of the Civil Rights Act of 1964 and other Federal civil rights statutes, an individual who believes that he or she been subjected to discrimination on the basis of race, color, national origin, sex, religion, age, or other bases by a public or private entity may, by himself or herself or by an authorized representative, file a complaint. Any Federal agency that receives a complaint alleging discrimination by a public or private entity is required to review the complaint to determine whether it has jurisdiction under Title VI or other Federal civil rights statutes. If the agency does not have jurisdiction, it can refer the complaint to the Federal Coordination and Compliance Section, Civil Rights Division, U.S. Department of Justice, for review and referral to the appropriate Federal agency or other action deemed appropriate.

(5) An estimate of the total number of respondents and the amount of time estimated for an average respondent to respond: 4,000 respondents per year at 30 minutes per complaint form.

(6) An estimate of the total public burden (in hours) associated with the collection: 2,000 hours annual burden hours associated with this collection.

If Additional Information is Required Contact: Lynn Murray, Department Clearance Officer, United States Department of Justice, Policy and Planning Staff, Justice Management Division, Two Constitution Square, 145 N Street, NE., Suite 2E-502, Washington, DC 20530.

Dated: January 6, 2011.
Lynn Murray,
Department Clearance Officer, PRA, United States Department of Justice.

[FR Doc. 2011-478 Filed 1-12-11; 8:45 am]

BILLING CODE 4410-13-P